DEPARTMENT OF COMMERCE

National Oceanic and Atmospheric Administration

[I.D. 061202C]

Endangered and Threatened Species; Take of Anadromous Fish

AGENCY: National Marine Fisheries Service (NMFS), National Oceanic and Atmospheric Administration (NOAA), Commerce.

ACTION: Receipt of an application for a scientific research permit (1386) and receipt of applications to modify two permits (1291, 1322).

SUMMARY: NMFS has received one new permit application and two applications to modify existing scientific research permits related to Pacific salmon and steelhead. The proposed research is intended to increase knowledge of the ESA-listed species and to help guide management and conservation efforts.

DATES: Comments or requests for a public hearing on the new application or modification requests must be received at the appropriate address or fax number (see ADDRESSES) no later than 5 p.m. Pacific daylight savings time on July 25, 2002.

ADDRESSES: Written comments on the new application or modification requests should be sent to Protected Resources Division, F/NWO3, 525 NE Oregon Street, Suite 500, Portland, OR 97232-2737 (503-230-5400). Comments may also be sent via fax to 503-230-5435. Comments will not be accepted if submitted via e-mail or the Internet.

FOR FURTHER INFORMATION CONTACT: Steve Stone, Portland, OR (ph: 503-231-2317, Fax: 503-230-5435, e-mail: steve.stone@noaa.gov.

SUPPLEMENTARY INFORMATION:

Species Covered in This Notice

The following ESA-listed species and evolutionarily significant units (ESUs) are covered in this notice:

Sockeye salmon (Oncorhynchus nerka): endangered Snake River (SnR); threatened Ozette Lake.

Chinook salmon (O. tshawytscha): endangered, naturally produced and artificially propagated, upper Columbia River (UCR) spring-run; threatened, naturally produced and artificially propagated, SnR spring/summer; threatened SnR fall; threatened lower Columbia River (LCR); threatened upper Willamette River (UWR); threatened, naturally produced and artificially propagated, Puget Sound.

Chum salmon (O. keta): threatened Columbia River (CR); threatened Hood Canal summer-run.

Steelhead (O. mykiss): endangered, naturally produced and artificially propagated, UCR; threatened SnR; threatened middle Columbia River (MCR); threatened LCR.

Authority

Scientific research and/or enhancement permits are issued under Section 10(a)(1)(A) of the Endangered Species Act of 1973 (ESA) (16 U.S.C. 1531 et. seq). Issuance of permits and permit modifications, as required by the ESA, is based on a finding that such permit/modifications: (1) are applied for in good faith; (2) if granted and exercised, would not operate to the disadvantage of the listed species that are the subject of the permit; and (3) are consistent with the purposes and policy of section 2 of the ESA. Authority to take listed species is subject to conditions set forth in the permits. Permits and modifications are issued in accordance with and are subject to the ESA and NMFS regulations governing listed fish and wildlife permits (50 CFR parts 222-226).

Those individuals requesting a hearing on an application listed in this notice should set out the specific reasons why a hearing on that application would be appropriate (see ADDRESSES). The holding of such hearing is at the discretion of the Assistant Administrator for Fisheries, NOAA. All statements and opinions contained in the permit action summaries are those of the applicant and do not necessarily reflect the views of NMFS.

New Application Received

Permit 1386

The Washington Department of Ecology at Olympia, WA (WDOE) requests a five year permit for annual takes of adults and juveniles all of the ESA-listed anadromous fish ESUs in the state of Washington associated with a research project proposed to occur in various streams and tributaries throughout the state. The objective of the research is to investigate the occurrence and monitor the concentrations of toxic contaminants in edible fish tissue and the freshwater environments of the state as part of the Washington State Toxics Monitoring Program. The proposed project responds in part to the state’s responsibility for protecting residents from the health risks associated with the consumption of contaminated, non-commercially caught fish. In addition, the proposed project responds to requirements of the federal Clean Water Act. The proposed project will help determine whether selected waters meet state water quality standards for toxic contaminants in fish as well as providing information about risks to humans and wildlife from the consumption of fish. Potential benefits to ESA-listed species as a result of the project may include the development of pollution control actions such as habitat improvements and/or the reduction or removal of the sources of toxic contaminants. Up to 20 adults and up to 100 juveniles from each ESA-listed fish ESU in Washington state are proposed to be captured annually (using nets, seines, or electrofishing), sampled for biological information, and released. Up to 2 percent of the ESA-listed juvenile fish proposed to be handled by WDOE researchers may be killed unintentionally.

Modification Requests Received

Permit 1291-Modification 1

The U.S. Geological Survey at Cook, WA (USGS) requests modification 1 to scientific research permit 1291. Permit 1291 authorizes USGS annual takes of ESA-listed anadromous fish juveniles associated with a research project that is being conducted at John Day, The Dalles, and Bonneville Dams on the lower Columbia River in the Pacific Northwest. The purpose of the research is to monitor juvenile fish movement, distribution, behavior, and survival from John Day Dam downstream past Bonneville Dam using radiotelemetry technology. The research will benefit ESA-listed fish species by providing information on spill effectiveness, forebay residence times, and guidance efficiency under various flow regimes that will allow federal resource managers to make adjustments to bypass/collection structures to optimize downriver migrant survival at the hydropower projects. For modification 1, USGS requests an increase in the annual take of juvenile, endangered, SnR sockeye salmon associated with the research. The take increase is requested because the number of outmigrating sockeye salmon juveniles present in the mainstem Columbia River has increased substantially in recent years due to an increase in hatchery production from the Idaho Department of Fish and Game’s captive broodstock program. Each year, up to 170 ESA-listed sockeye salmon juveniles are proposed to be captured by USGS from the juvenile bypass facilities at the dams, sampled for biological information, and released. Up to 3 percent of the ESA-listed juvenile fish proposed to be handled by USGS researchers and/or their designated agents may be killed unintentionally. The permit modification is requested to be valid for the duration of the permit which expires on December 31, 2006.

Permit 1322-Modification 1

On April 12, 2002, NMFS published a notice in the Federal Register (67 FR 17970) that the Northwest Fisheries Science Center at Seattle, WA (NWFSC) requested modification 1 to scientific research permit 1322. For modification 1, NWFSC requested additional annual takes of ESA-listed anadromous fish associated with a research project that is being conducted in the lower Columbia River estuary. NMFS has received an amended application for a permit modification from USGS. In addition to the takes designated in the April 12, 2002 notice, USGS is requesting additional annual lethal takes of up to 38 juvenile, endangered, naturally produced and artificially propagated, UCR spring chinook salmon; up to four juvenile, threatened, artificially propagated, SnR spring/summer chinook salmon; up to 3 juvenile, threatened, UWR chinook salmon; and up to 400 juvenile, threatened, CR chum salmon associated with the research. Modification 1 is requested to be valid for the duration of the permit which expires on December 31, 2006.

Dated: June 19, 2002.
Margaret Lorenz,
Acting Chief, Endangered Species Division, Office of Protected Resources, National Marine Fisheries Service.

[FR Doc. 02-15992 Filed 6-24-02; 8:45 am]

BILLING CODE 3510-22-S